DEPARTMENT OF JUSTICE

[OMB Number 1122-0NEW]

Agency Information Collection Activities; Proposed eCollection eComments Requested; New Collection; Supervised Visitation and Safe Exchange Guiding Principles Reflection Survey for Past and Current Grantees

AGENCY: Office on Violence Against Women, Department of Justice.

ACTION: 60-Day notice.

SUMMARY: The Office on Violence Against Women (OVW), Department of Justice (DOJ), will be submitting the following information collection request to the Office of Management and Budget (OMB) for review and approval in accordance with the Paperwork Reduction Act of 1995.

DATES: Comments are encouraged and will be accepted for 60 days until October 2, 2023.

FOR FURTHER INFORMATION CONTACT: If you have additional comments especially on the estimated public burden or associated response time, suggestions, or need a copy of the proposed information collection instrument with instructions or additional information, please contact Cathy Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Congress acknowledged the need for available and appropriate supervised visitation and exchange services for child(ren) and adult victims of domestic violence and established the Safe Havens: Supervised Visitation and Safe Exchange Grant Program (Supervised Visitation Program) as part of the Violence Against Women Act of 2000. This Federal grant program is designed to increase supervised visitation and exchange services for victims of domestic violence, sexual assault, stalking, dating violence, and child abuse. The Supervised Visitation Program seeks to shift the focus of supervised visitation and exchange in domestic violence cases in an important way: where the traditional purpose of supervised visitation was to keep the children safe while allowing continued access by the parents, Supervised Visitation Program grantees, funded by the United States Department of Justice, Office on Violence Against Women (OVW), must consider as their highest priority the safety of both children and adult victims.

In 2007, OVW announced Guiding Principles of the Safe Havens: Supervised Visitation and Safe Exchange Grant Program (Guiding Principles) designed to guide the development and administration of Supervised Visitation Program centers with an eye toward addressing the needs of child(ren) and adult victims of domestic violence in visitation and exchange settings. The Guiding Principles look beyond the visitation setting to address how communities funded under the Supervised Visitation Program should address domestic violence in the larger community. In addition, the Guiding Principles provide guidance for communities developing or enhancing supervised visitation and exchange services for families experiencing domestic violence, child abuse, sexual assault, dating violence, or stalking; serve as a reference for drafting policies and protocols for these services; and assist collaborations with shaping, informing, and reviewing local supervised visitation and exchange services to address domestic violence.

In the Violence Against Women Reauthorization Act of 2013, Congress authorized the Justice for Families (JFF) Program which supports activities to improve the capacity of communities and courts to respond to families impacted by domestic violence, dating violence, sexual assault, stalking, and in some cases child sexual abuse with court based and court-related programs, supervised visitation and safe exchange by and between parents, training and technical assistance for people who work with families in the court system, civil legal services, and the provision of resources in juvenile court matters. The JFF Program includes purpose areas previously authorized under the Supervised Visitation Program. OVW has decided to update to reimagine the Guiding Principles to reflect improved best practices for families experiencing domestic violence, language access and serving underserved communities.

The purpose of this information collection is to provide valuable information from current and former Supervised Visitation Program and JFF Programs grantees to inform the process of updating the Guiding Principles. The type of survey questions will include Likert scale questions and open ended questions regarding equal regard for the safety of children and adult victims; valuing multiculturalism and diversity; understanding domestic violence nature, dynamics and impact; respectful and fair interaction; community collaboration; and advocacy.

Overview of This Information Collection

1. Type of Information Collection: New collection.

2. The Title of the Form/Collection: Supervised Visitation and Safe Exchange Guiding Principles Reflection Survey for Past and Current Grantees.

3. The agency form number, if any, and the applicable component of the Department sponsoring the collection: Form Number: 1122-XXXX. U.S. Department of Justice, Office on Violence Against Women.

4. Affected public who will be asked or required to respond, as well as the obligation to respond: Affected Public: affected public includes the current and former JFF Program grantees. The obligation to respond is voluntary.

5. An estimate of the total number of respondents and the amount of time estimated for an average respondent to respond: It is estimated that it will take the approximately 240 respondents, current and former JFF Program and Safe Haven Program grantees approximately thirty minutes to complete the survey.

An estimate of the total annual burden (in hours) associated with the collection:

6. The total annual hour burden to complete the data collection forms is 120 hours, that is 240 current and former JFF Program and Safe Haven Program grantees completing the survey one time with an estimated completion time being thirty minutes.

7. An estimate of the total annual cost burden associated with the collection, if applicable: $0.

Total Burden Hours
Activity | Number of respondents | Frequency | Total annual responses | Time per response (minutes) | Total annual burden (hours)
Survey | 240 | 1 time | 1 time | 30 | 120
Unduplicated Totals | 600 |  | 600 |  | 37

If additional information is required contact: Darwin Arceo, Department Clearance Officer, United States Department of Justice, Justice Management Division, Policy and Planning Staff, Two Constitution Square, 145 N Street NE, 4W-218, Washington, DC.

Dated: July 27, 2023.
Darwin Arceo,
Department Clearance Officer for PRA, U.S. Department of Justice.

[FR Doc. 2023-16289 Filed 7-31-23; 8:45 am]

BILLING CODE P